DEPARTMENT OF HEALTH AND HUMAN SERVICES

Administration for Children and Families

Title IV-E Prevention Services Clearinghouse Handbook of Standards and Procedures

AGENCY: Administration for Children and Families, HHS.

ACTION: Request for public comment.

SUMMARY: The Administration for Children and Families (ACF), within the U.S. Department of Health and Human Services (HHS), established the Title IV-E Prevention Services Clearinghouse (hereafter, the Clearinghouse; https://preventionservices.abtsites.com). This Federal Register Notice (FRN) seeks comments by August 16, 2021 on the Clearinghouse's Handbook of Standards and Procedures, Version 1.0. Responses to this FRN will inform potential updates and clarifications to existing standards and procedures. Readers are referred to the full version of the Handbook of Standards and Procedures, Version 1.0 on the Clearinghouse website (https://preventionservices.abtsites.com/review-process). Specifically, feedback is invited on each of the steps and operational procedures of the Prevention Services Clearinghouse systematic review process.

DATES: The deadline for comments on this notice is August 16, 2021.

ADDRESSES: Interested parties may submit written questions, comments, and supplementary documents by email to preventionservices@abtassoc.com with “Title IV-E PSC FRN comment” in the subject line. To ensure that your comments have maximum effect, please identify clearly the section of the Handbook of Standards and Procedures, Version 1.0 (https://preventionservices.abtsites.com/review-process) that your comment addresses.

SUPPLEMENTARY INFORMATION:

1.0 Background and Legislative Context

The Family First Prevention Services Act (FFPSA) was signed into law as part of the Bipartisan Budget Act (H.R. 1892) on February 9, 2018. FFPSA amended the Social Security Act (the Act) to enable use of Federal funds available under parts B and E of title IV of the Social Security Act to provide enhanced support to children and families and prevent foster care placements through the provision of evidence-based mental health and substance abuse prevention and treatment services, in-home parent skill-based programs, and kinship navigator services. As described in the statutory language, these services and programs are intended “for children who are candidates for foster care or who are pregnant or parenting foster youth and the parents or kin caregivers of the children.”

The Act requires an independent systematic review of evidence to designate programs and services as “promising,” “supported,” and “well supported” practices, defined as follows in section 471(e)(4)(C):

• Promising Practice: “A practice shall be considered to be a `promising practice' if the practice is superior to an appropriate comparison practice using conventional standards of statistical significance (in terms of demonstrated meaningful improvements in validated measures of important child and parent outcomes, such as mental health, substance abuse, and child safety and well-being), as established by the results or outcomes of at least one study that—(1) was rated by an independent systematic review for the quality of the study design and execution and determined to be well-designed and well-executed; and (2) utilized some form of control (such as an untreated group, a placebo group, or a wait list study).”

• Supported Practice: “A practice shall be considered to be a `supported practice' if (I) the practice is superior to an appropriate comparison practice using conventional standards of statistical significance (in terms of demonstrated meaningful improvements in validated measures of important child and parent outcomes, such as mental health, substance abuse, and child safety and well-being), as established by the results or outcomes of at least one study that—(aa) was rated by an independent systematic review for the quality of the study design and execution and determined to be well-designed and well-executed; (bb) was a rigorous random-controlled trial (or, if not available, a study using a rigorous quasi-experimental research design); and (cc) was carried out in a usual care or practice setting; and (II) the study described in sub-clause (I) established that the practice has a sustained effect (when compared to a control group) for at least 6 months beyond the end of treatment.”

• Well-supported Practice: “A practice shall be considered to be a `well-supported practice' if (I) the practice is superior to an appropriate comparison practice using conventional standards of statistical significance (in terms of demonstrated meaningful improvements in validated measures of important child and parent outcomes, such as mental health, substance abuse, and child safety and well-being), as established by the results or outcomes of at least two studies that—(aa) were rated by an independent systematic review for the quality of the study design and execution and determined to be well-designed and well-executed; and (bb) were rigorous random-controlled trials (or, if not available, studies using a rigorous quasi-experimental research design); and (cc) were carried out in a usual care or practice setting; and (II) at least one of the studies described in sub-clause (I) established that the practice has a sustained effect (when compared to a control group) for at least 1 year beyond the end of treatment.”

In accordance with the statute, practices must also meet the following requirements:

• Book or manual: The practice has a book, manual, or other available writings that specify the components of the practice protocol and describe how to administer the practice.

• No empirical risk of harm: There is no empirical basis suggesting that, compared to its likely benefits, the practice constitutes a risk of harm to those receiving it.

• Weight of evidence supports benefits: If multiple outcome studies have been conducted, the overall weight of evidence supports the benefits of the practice.

• Reliable and valid outcome measures: Outcome measures are reliable and valid, and are administrated consistently and accurately across all those receiving the practice.

• No case data for severe or frequent risk of harm: There is no case data suggesting a risk of harm that was probably caused by the treatment and that was severe or frequent (section 471(e)(4)(C)(ii) of the Act).

In order to meet these requirements, ACF established the Clearinghouse. The Clearinghouse carries out a systematic review process implemented by trained reviewers using consistent, transparent standards and procedures. The Handbook of Standards and Procedures, Version 1.0 (https://preventionservices.abtsites.com/review-process) provides a detailed description of the standards used to identify and review programs and services for the Clearinghouse and the procedures followed by the Clearinghouse staff. The Handbook of Standards and Procedures, Version 1.0 was informed by public comments submitted in response to Federal Register Notice 83 FR 29122 (https://www.federalregister.gov/documents/2018/06/22/2018-13420/decisions-related-to-the-development-of-a-clearinghouse-of-evidence-based-practices-in-accordance), consultations with research and practice experts, and the review processes developed and used by other prominent evidence clearinghouses.

2.0 Request for Information (RFI)

Through this FRN, ACF invites feedback on the Handbook of Standards and Procedures, Version 1.0 (https://preventionservices.abtsites.com/review-process). Specifically, feedback is invited on each of the steps of the Prevention Services Clearinghouse systematic review process:

1. Identify programs and services for review. Candidate programs and services relevant to the mission of the Clearinghouse are identified using an inclusive process that invites recommendations from stakeholders, including states, to ensure broad coverage across program or service areas (Chapter 1).

2. Select and prioritize programs and services for review. Candidate programs and services are evaluated against the program or service eligibility criteria and prioritized for review (Chapter 2).

3. Literature search. Clearinghouse staff conduct comprehensive literature searches to locate available and relevant research on the prioritized programs and services (Chapter 3).

4. Study eligibility screening and prioritization. Studies identified in the literature searches are screened against the study eligibility criteria. Studies determined to be eligible for review are considered against prioritization criteria to determine the order and depth of their review (Chapter 4).

5. Evidence review. All eligible studies are reviewed by trained reviewers using the Clearinghouse design and execution standards. Study authors may be queried to request information deemed necessary to assign a rating. One of three ratings is assigned to prioritized studies: High, moderate, or low support of causal evidence (Chapter 5).

6. Program and service ratings. Studies that are rated as high or moderate support of causal evidence are considered in assigning each program or service one of four ratings: Well-supported, supported, promising, or does not currently meet criteria (Chapter 6). These ratings also take into consideration any evidence of risk of harm.

Feedback is also invited on the operational procedures for reviewing programs and services (Chapter 7).

Responses to this FRN will inform ongoing discussion about potential updates and clarifications to existing standards and procedures. Consistent with the practice of other prominent federal evidence reviews, standards and procedures may be revised over time as research methods evolve, the needs of the field change, and lessons are learned during the review process. Potential revisions to the Clearinghouse's standards and procedures may affect which programs and services are eligible or prioritized for review, which studies of programs and services are eligible or prioritized for review, which studies of programs and services meet design and execution ratings, and program or service ratings. ACF especially welcomes comments on how the standards and procedures might be revised to better reflect the goals and requirements of the Executive Order on Advancing Racial Equity and Support for Underserved Communities Through the Federal Government (https://www.whitehouse.gov/briefing-room/presidential-actions/2021/01/20/executive-order-advancing-racial-equity-and-support-for-underserved-communities-through-the-federal-government/) and the President's Memorandum on Restoring Trust in Government Through Scientific Integrity and Evidence-Based Policymaking (https://www.whitehouse.gov/briefing-room/presidential-actions/2021/01/27/memorandum-on-restoring-trust-in-government-through-scientific-integrity-and-evidence-based-policymaking/).

Through this FRN, ACF is soliciting information from a broad array of stakeholders. This FRN is one way to ensure that activities associated with the Title IV-E Prevention Services Clearinghouse are transparent and build from the existing knowledge of states, federal agencies, researchers, evaluators, program and service developers, key stakeholders and experts, and the general public. The public will have an opportunity to comment on specific revisions to the Clearinghouse's standards and procedures through a future FRN.

To facilitate the review of submissions, please identify the chapter, section, and/or page number of the Handbook of Standards and Procedures, Version 1.0 (https://preventionservices.abtsites.com/review-process) that your comments address.

This RFI is for information and planning purposes only and should not be construed as a solicitation or as an obligation on the part of ACF or HHS.

For more information about the Prevention Services Clearinghouse, visit: https://preventionservices.abtsites.com.

Naomi Goldstein,
Deputy Assistant Secretary for Planning, Research, and Evaluation.

[FR Doc. 2021-15065 Filed 7-14-21; 8:45 am]

BILLING CODE 4184-01-P